DEPARTMENT OF LABOR

Employment and Training Administration

[TA-W-39,839]

Honeywell, Inc. Advanced Circuits Division, Roseville, MN; Notice of Termination of Investigation

Pursuant to section 221 of the Trade Act of 1974, an investigation was initiated on August 20, 2001 in response to a worker petition which was filed on behalf of workers at Honeywell International, Advanced Circuits Division, Roseville, Minnesota.

The petitioning group of workers is subject to an ongoing investigation for which a determination has not yet been issued (TA-W-39,281C). Consequently, further investigation in this case would serve no purpose, and the investigation has been terminated.

Signed at Washington, DC this 13th day of February, 2002.
Linda G. Poole,
Certifying Officer, Division of Trade Adjustment Assistance.

[FR Doc. 02-4727 Filed 2-27-02; 8:45 am]

BILLING CODE 4510-30-M